DEPARTMENT OF COMMERCE

National Oceanic and Atmospheric Administration

[I.D. 032307A]

North Pacific Fishery Management Council; Public Meeting

AGENCY: National Marine Fisheries Service (NMFS), National Oceanic and Atmospheric Administration (NOAA), Commerce.

ACTION: Notice of a public meeting of the North Pacific Fishery Management Council's Halibut Charter Stakeholder Committee.

SUMMARY: The North Pacific Fishery Management Council (Council) Halibut Charter Stakeholder Committee will meet in Anchorage, AK at the North Pacific Research Board meeting room.

DATES: The meeting will be held on April 12, 2007, from 8:30 a.m. to 4:30 p.m. and on April 13, 2007, from 8:30 a.m. to 12 noon.

ADDRESSES: The meeting will be held at the North Pacific Research Board, 1007 West 3rd Avenue, Suite 100 Anchorage, AK 99501.

Council address: North Pacific Fishery Management Council, 605 W. 4th Ave., Suite 306, Anchorage, AK 99501-2252.

FOR FURTHER INFORMATION CONTACT: Jane DiCosimo, Council staff; telephone: (907) 271-2809.

SUPPLEMENTARY INFORMATION: The agenda will include the following: report on status of Council actions; report on status of State actions; subcommittee report on finance mechanisms to compensate reallocation from commercial to charter sectors; continued revisions to permanent solution alternatives; separating allocation from permanent solution analysis; charter halibut bycatch mortality estimates; new proposals; other business.

Special Accommodations

These meetings are physically accessible to people with disabilities. Requests for sign language interpretation or other auxiliary aids should be directed to Gail Bendixen at (907) 271-2809 at least 7 working days prior to the meeting date.

Dated: March 23, 2007.
Tracey L. Thompson,
Acting Director, Office of Sustainable Fisheries, National Marine Fisheries Service.

[FR Doc. E7-5636 Filed 3-27-07; 8:45 am]

BILLING CODE 3510-22-S